DEPARTMENT OF DEFENSE

GENERAL SERVICES ADMINISTRATION

NATIONAL AERONAUTICS AND SPACE ADMINISTRATION

[OMB Control No. 9000-0004]

Federal Acquisition Regulation; Submission for OMB Review; Architect-Engineer and Related Services Questionnaire (SF 254)

AGENCIES: Department of Defense (DOD), General Services Administration (GSA), and National Aeronautics and Space Administration (NASA).

ACTION: Notice of request for public comments regarding an extension to an existing OMB clearance (9000-0004).

SUMMARY: Under the provisions of the Paperwork Reduction Act of 1995 (44 U.S.C. chapter 35), the Federal Acquisition Regulation (FAR) Secretariat has submitted to the Office of Management and Budget (OMB) a request to review and approve an extension of a currently approved information collection requirement concerning architect-engineer and related services questionnaire (SF 254). A request for public comments was published at 68 FR 60093, October 21, 2003. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before January 20, 2004.

ADDRESSES: Submit comments regarding this burden estimate or any other aspect of this collection of information, including suggestions for reducing this burden to the General Services Administration, FAR Secretariat (MVA), 1800 F Street, NW., Room 4035, Washington, DC 20405.

FOR FURTHER INFORMATION CONTACT: Cecelia Davis, Acquisition Policy Division, GSA (202) 219-0202.

SUPPLEMENTARY INFORMATION:

A. Purpose

Standard Form (SF) 254, Architect-Engineer and Related Services Questionnaire is used by all Executive agencies to obtain uniform information about a firm's experience in architect-engineering (A-E) projects. The form is submitted annually as required by 40 U.S.C. 541—544 by firms wishing to be considered for government A-E contracts. The information obtained on this form is used to determine if a firm should be solicited for A-E projects.

The SF 330, Architect-Engineer Qualifications will replace SF 254, Architect-Engineer and Related Services Questionnaire. The SF 330 reflects current architect-engineer practices in a streamlined and updated format, and is organized into data blocks that readily support automation. The final version of the SF 330 has been published in the Federal Register and mandatory use is set for June 8, 2004. Therefore, it is necessary to extend this SF 254 for six months to cover this period of time.

B. Annual Reporting Burden

Respondents: 5,000.

Responses Per Respondent: 7.

Total Responses: 35,000.

Hours Per Response: 1.

Total Burden Hours: 35,000.

Obtaining Copies of Proposals

Requesters may obtain a copy of the information collection documents from the General Services Administration, FAR Secretariat (MVA), Room 4035, 1800 F Street, NW., Washington, DC 20405, telephone (202) 501-4755. Please cite OMB Control No. 9000-0004, Architect-Engineer and Related Services Questionnaire (SF 254), in all correspondence.

Dated: December 15, 2003.
Laura Auletta,
Director, Acquisition Policy Division.

[FR Doc. 03-31345 Filed 12-18-03; 8:45 am]

BILLING CODE 6820-EP-P